NATIONAL FOUNDATION FOR THE ARTS AND THE HUMANITIES

Institute of Museum and Library Services

Notice of Proposed Information Collection Request: Museum Assessment Program Application Forms

AGENCY: Institute of Museum and Library Services, National Foundation for the Arts and the Humanities.

ACTION: Notice; request for comments, collection of information.

SUMMARY: The Institute of Museum and Library Services (IMLS), as part of its continuing effort to reduce paperwork and respondent burden, conducts a pre-clearance consultation program to provide the general public and Federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to solicit comments concerning the three-year approval of the forms necessary to support the implementation of the Museum Assessment Program (MAP). They are designed to collect information to support both applications to the program by museums and post-program evaluations. A copy of the proposed information collection request can be obtained by contacting the individual listed below in the ADDRESSES section of this Notice.

DATES: Written comments must be submitted to the office listed in the addressee section below on or before January 28, 2022.

ADDRESSES: Send comments to Connie Bodner, Ph.D., Director of Grants Policy and Management, Office of Grants Policy and Management, Institute of Museum and Library Services, 955 L'Enfant Plaza North SW, Suite 4000, Washington, DC 20024-2135. Dr. Bodner can be reached by telephone: 202-653-4636, or by email at cbodner@imls.gov. Office hours are from 8:30 a.m. to 5 p.m., E.T., Monday through Friday, except Federal holidays. Persons who are deaf or hard of hearing (TTY users) can contact IMLS at 202-207-7858 via 711 for TTY-Based Telecommunications Relay Service.

FOR FURTHER INFORMATION CONTACT: Mark Isaksen, Supervisory Grants Management Specialist, Office of Museum Services, Institute of Museum and Library Services, 955 L'Enfant Plaza North SW, Suite 4000, Washington DC 20024-2135. Mr. Isaksen can be reached by telephone at 202-653-4667, or by email at misaksen@imls.gov.

SUPPLEMENTARY INFORMATION: IMLS is particularly interested in public comment that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

The Institute of Museum and Library Services is the primary source of Federal support for the Nation's libraries and museums. We advance, support, and empower America's museums, libraries, and related organizations through grant making, research, and policy development. To learn more, visit www.imls.gov.

II. Current Actions

The Museum Assessment Program (MAP) offers museums an opportunity to strengthen operations and plan for the future through a process of self-assessment, institutional activities, and consultative peer review. MAP is supported through a cooperative agreement between IMLS and the American Alliance of Museums. Program participants choose from among five assessments: Organizational, Collections Stewardship, Education and Interpretation, Community and Audience Engagement, and Board Leadership. Those who complete the assessment receive a report with prioritized recommendations reflecting the assessment type chosen. The forms submitted for public review will include the MAP Application, the MAP Follow-Up Visit Request Form, and seven online evaluations addressing specific aspects of the assessment process, the materials used, the individual(s) serving as peer reviewers, and the impact one year after the assessment's conclusion.

Agency: Institute of Museum and Library Services.

Title: Museum Assessment Program Application Forms.

OMB Control Number: 3137-0101.

Agency Number: 3137.

Respondents/Affected Public: Museum staff.

Total Estimated Number of Annual Respondents: 125.

Frequency of Response: Once per request.

Average Minutes per Response: 420 minutes.

Total Estimated Number of Annual Burden Hours: 875.

Cost Burden (dollars): TBD.

Public Comments Invited: Comments submitted in response to this Notice will be summarized and/or included in the request for OMB's clearance of this information collection.

Dated: November 23, 2021.
Suzanne Mbollo,
Grants Management Specialist, Institute of Museum and Library Services.

[FR Doc. 2021-25967 Filed 11-29-21; 8:45 am]

BILLING CODE 7036-01-P